DEPARTMENT OF THE INTERIOR

Geological Survey

Technology Transfer Act of 1986

AGENCY: Geological Survey, Department of Interior.

ACTION: Notice of proposed Cooperative Research and Development Agreement. (CRADA) negotiations.

SUMMARY: The United States Geological Survey (USGS) is planning to enter into a Cooperative Research and Development Agreement (CRADA) with Beartooth Mapping, Inc., Red Lodge, Montana. The purpose of the CRADA is to develop and deploy Internet-based Print-On-Demand capabilities for the on-demand production of image maps based on USGS Digital Orthophotoquad data. Any other organization interested in pursuing the possibility of CRADA for similar kinds of activities should contact the USGS.

ADDRESSES: Inquiries may be addressed to the Branch of Business Development, U.S. Geological Survey, 500 National Center, 12201 Sunrise Valley Drive, Reston, Virginia 20192; Telephone (703) 648-4621, facsimile (703) 648-4706; Internet “bduff@usgs.gov”.

FOR FURTHER INFORMATION CONTACT: Beth L. Duff, address above.

SUPPLEMENTARY INFORMATION: This notice is to meet the USGS requirement stipulated in the Survey Manual.

Dated: March 4, 2002.
Robert A. Lidwin,
Chief of Staff.

[FR Doc. 02-11762 Filed 5-9-02; 8:45 am]

BILLING CODE 4310-Y7-M